DEPARTMENT OF HEALTH AND HUMAN SERVICES

Administration for Children and Families

[ACYF/FYSB 2004/01A]

Notice of Correction for the Mentoring Children of Prisoners Program Announcement

AGENCY: Administration on Children, Youth, and Families, ACF, DHHS.

ACTION: Notice of correction.

Funding Opportunity Title: Mentoring Children of Prisoners.

Funding Opportunity Number: HHS-2004-ACF-ACYF-CU-0001.

SUMMARY: This notice is to inform interested parties of corrections made to the Mentoring Children of Prisoners Program Announcement published on Monday, February 23, 2004. The following corrections should be noted:

(1) Under DEFINITIONS, Children of Prisoner—The third sentence should read as follows: Children of persons incarcerated in local facilities become eligible for the mentoring program only in the unfortunate instance that the parent is remanded to the custody of the state department of corrections or the federal correctional system.

(2) Under DEFINITIONS, Prisoner—The sentence should read as follows: Adult who is incarcerated in a Federal or state correctional facility or is being held in a local facility but is remanded to the custody of the state department of corrections or federal correctional system.

(3) Under AWARD INFORMATION—Ceiling on amount of individual Awards should read as follows: $5,000,000.

(4) Under ADDITIONAL INFORMATION ON ELIGIBILITY—The second and third to last sentences should read as follows: Applicants are cautioned that the ceiling for individual awards is $5,000,000. Applications exceeding the $5,000,000 federal request threshold will be returned without review.

(5) Under ADDITIONAL INFORMATION ON ELIGIBILITY, Cost Sharing or Matching—The first sentence should read as follows: For the first and second years of the grant, federal funds will pay 75% of the total project budget and grantees must pay at least 25% of the total project budget (Federal + Non-Federal = Total Project Budget).

(6) Under ADDITIONAL INFORMATION ON ELIGIBILITY, Other (if applicable)—The second to last sentence should read as follows: Applications exceeding the $5,000,000 federal request threshold will be returned without review.

(7) Under PROGRAM GUIDANCE—The last sentence should read as follows: Applicants are cautioned that the ceiling for individual awards is $5,000,000.

(8) Under APPLICATION AND SUBMISSION INFORMATION, Funding Restrictions—The two sentences should read as follows: Applicants are cautioned that the ceiling for individual awards is $5,000,000. Applications exceeding the $5,000,000 federal request threshold will be returned without review.

The only changes to the Mentoring Children of Prisoners Program Announcement are explicitly stated in this Notice of Correction. All applications must still be sent on or before the deadline date of April 23, 2004. Applications must be mailed or delivered to: ACYF Operations Center, c/o The Dixon Group, Inc., 118 Q Street, NE., Washington, DC 20002-2132, (866) 796-1591.

FOR FURTHER INFORMATION CONTACT: The ACYF Operations center at the above phone number or address.

Dated: March 11, 2004.
Joan E. Ohl,
Commissioner, Administration on Children, Youth and Families.

[FR Doc. 04-7263 Filed 3-31-04; 8:45 am]

BILLING CODE 4184-01-P